DEPARTMENT OF STATE

[Public Notice 7265]

60-Day Notice of Proposed Information Collection: Forms DS-2053, DS-2054; Medical Examination for Immigrant or Refugee Applicant; DS-3024, DS-3030, Chest X-Ray and Classification Worksheet; DS-3025, Vaccination Documentation Worksheet; DS-3026; Medical History and Physical Examination Worksheet; OMB Control Number 1405-0113

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Electronic Medical Examination for Immigrant or Refugee Applicant.

• OMB Control Number: 1405-0113.

• Type of Request: Revision of a Currently Approved Collection.

• Originating Office: Bureau of Consular Affairs, Office of Visa Services (CA/VO).

• Form Numbers: DS-2053, DS-2054, DS-3024, DS-3025, DS-3026, and DS-3030.

• Respondents: Immigrant visa and refugee applicants.

• Estimated Number of Respondents: 630,000 per year.

• Estimated Number of Responses: 630,000 per year.

• Average Hours Per Response: 1 hour.

• Total Estimated Burden: 630,000 hours annually.

• Frequency: Once per application.

• Obligation to Respond: Required to Obtain Benefit.

DATE(S): The Department will accept comments from the public up to 60 days from December 14, 2010.

ADDRESSES: You may submit comments by any of the following methods:

• E-mail: claussr@state.gov.

• Mail (paper, disk, or CD-ROM submissions): Chief, Legislation and Regulations Division, Visa Services—OMB 1405-0113 Reauthorization, 2401 E Street, NW., Washington, DC 20520-30106.

• Fax: (202) 663-3898.

You must include the DS form number(s) (if applicable), information collection title, and OMB control number in any correspondence.

FOR FURTHER INFORMATION CONTACT: Direct requests for additional information regarding the collection listed in this notice, including requests for copies of the proposed information collection and supporting documents, to Stefanie Claus of the Office of Visa Services, U.S. Department of State, 2401 E Street, NW., L-603, Washington, DC 20522, who may be reached at (202) 663-2910.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

INA Section 221(d) requires that prior to the issuance of an immigrant visa the applicant undergo a physical and mental examination. The results of the medical examination are used to determine the alien's eligibility for such a visa under INA 212(a)(1). INA Section 412(b)(4)(B) requires that the United States Government “provide for the identification of refugees who have been determined to have medical conditions affecting the public health and requiring treatment.” Form DS-2053, Medical Examination for Immigrant or Refugee Applicant (1991 Technical Instructions); Form DS-2054, Medical Examination for Immigrant or Refugee Applicant (2007 Technical Instructions); Form DS-3024, Chest X-Ray and Classification Worksheet (1991 Technical Instructions); Form DS-3030, Chest X-Ray and Classification Worksheet (2007 Technical Instructions); Form DS-3025, Vaccination Documentation Worksheet; Form DS-3026, Medical History and Physical Examination Worksheet, are designed to record the results of the medical examination. The panel physician performs the medical examination of the applicant and completes the forms. Medical exams may also be required occasionally for nonimmigrant visa applicants.

Methodology

The electronic medical forms will be submitted electronically to the Department. Doctors who submit the medical information electronically will no longer submit paper-based forms to the Department. It is the intention of the Department to discontinue the paper versions as this electronic submission option is made available to all panel physicians worldwide.

At posts that continue in the short term to use the paper version of the medical forms, panel physicians will keep copies of the form at their offices. The completed forms are then submitted in hard copy to the consular officer for processing.

Dated: November 29, 2010.
David T. Donahue,
Deputy Assistant Secretary, Bureau of Consular Affairs, Department of State.

[FR Doc. 2010-31355 Filed 12-13-10; 8:45 am]

BILLING CODE 4710-06-P